DEPARTMENT OF THE INTERIOR

Fish and Wildlife Service

50 CFR Part 17

RIN 1018-AGO4

Endangered and Threatened Wildlife and Plants; Reopening of the Comment Period on the Proposed Listing of the Buena Vista Lake Shrew

AGENCY: Fish and Wildlife Service, Interior.

ACTION: Proposed rule; notice of reopening of comment period.

SUMMARY: We, the U.S. Fish and Wildlife Service (Service), pursuant to the Endangered Species Act of 1973, as amended (Act), provide notice of the reopening of the comment period for the proposed listing of the Buena Vista Lake shrew (Sorex ornatus relictus) as endangered. The comment period has been reopened in order to provide all interested parties additional opportunity to submit oral or written comments on the proposal, and request a public hearing, on the proposed rule. Comments previously submitted need not be resubmitted as they will be incorporated into the public records as a part of this reopening and will be fully considered in the final rule.

DATES: We will accept comments from all interested parties until October 13, 2000. Public hearing requests must be received by Setpember 28, 2000.

ADDRESSES: If you wish to comment, you may submit your comments and materials concerning this proposal by any one of several methods.

1. You may submit written comments and information to the Field Supervisor, Sacramento Fish and Wildlife Office, U.S. Fish and Wildlife Service, 2800 Cottage Way, Room W-2605, Sacramento, California 95825.

2. You may hand-deliver written comments to our Sacramento Fish and Wildlife Office, U.S. Fish and Wildlife Service, 2800 Cottage Way, Room W-2605, Sacramento, California 95825.

3. You may send comments by electronic mail (e-mail) to fw1bvshrew@fws.gov. Please submit comments in ASCII file format and avoid the use of special characters and encryption. Please include “Attn: RIN 1018-AGO4” and your name and return address in your e-mail message. If you do not receive a confirmation from the system that we have received your e-mail message, contact us directly by calling our Sacramento Fish and Wildlife Office, at telephone 916-414-6600.

Comments and materials received, as well as supporting documentation used in the preparation of this proposed rule, will be available for public inspection, by appointment, during normal business hours at the Sacramento Fish and Wildlife Office, U.S. Fish and Wildlife Service, 2800 Cottage Way, Room W-2605, Sacramento, California 95825.

FOR FURTHER INFORMATION CONTACT: Dwight Harvey, Sacramento Fish and Wildlife Office (see ADDRESSES section) (telephone 916/414-6600; facsimile 916/414-6710).

SUPPLEMENTARY INFORMATION:

Background

The Buena Vista Lake shrew is found in marshes and sloughs within a site formerly known as the Kern Lake Preserve, Kern County, California. This subspecies may also occur in the Tulare Basin and at Kern National Wildlife Refuge, but the status and identity of animals at these other sites is unknown. No more than 38 individuals have been observed at Kern Lake Preserve since 1986. The only known extant Buena Vista Lake shrew population is threatened primarily by agricultural activities and potential impacts to local hydrology, uncertainty of water delivery, possible toxic effects from selenium poisoning, and random naturally occurring events.

We intend that any final action resulting from this proposal will be as accurate and as effective as possible. Therefore, comments or suggestions from the public, other concerned governmental agencies, the scientific community, industry, or any other interested party concerning this proposed rule are sought. Comments are sought particularly regarding:

(1) Biological, commercial, or other relevant data concerning any threat (or lack thereof) to the Buena Vista Lake shrew;

(2) The location of any additional populations of this subspecies and habitat association (including specific vegetation and soil type), and the reasons why any habitat should or should not be determined to be critical habitat as provided by section 4 of the Endangered Species Act of 1973, as amended (16 U.S.C. 1531 et seq.);

(3) Additional information concerning the range, distribution, and population size and genetics of this subspecies;

(4) Current or planned activities in the subject area and their possible impacts on this subspecies; and

(5) Additional relevant information concerning the life-history, habits, and dispersal of this subspecies.

We published a proposed rule in the Federal Register (65 FR 35033) on June 1, 2000 to list the Buena Vista Lake shrew (Sorex ornatus relictus) as endangered. The original comment period closed on July 31, 2000. We are reopening the comment period in order to provide the public an additional opportunity to provide written or oral comment on the proposal.

Our practice is to make comments available for public review during regular business hours, including names and home addresses of respondents. Individual respondents may request that we withhold their home address from the rulemaking record, which we will honor to the extent allowable by law. In some circumstances, we would withhold from the rulemaking record a respondent's identity, as allowable by law. If you wish for us to withhold your name and/or address, you must state this prominently at the beginning of your comment. However, we will not consider anonymous comments. We will make all submissions from organizations or businesses, and from individuals identifying themselves as representatives or officials of organizations or businesses, available for public inspection in their entirety.

Author: The primary author of this notice is Dwight Harvey (see ADDRESSES section).

Authority: The authority for this action is the Endangered Species Act of 1973, as amended (16 U.S.C. 1531 et seq.).

Dated: August 4, 2000.
Elizabeth H. Stevens,
Manager-California/Nevada Operations Office.

[FR Doc. 00-20605 Filed 8-11-00; 8:45 am]

BILLING CODE 4310-55-U